DEPARTMENT OF JUSTICE

Antitrust Division

Notice Pursuant to the National Cooperative Research and Production Act of 1993—National Spectrum Consortium

Notice is hereby given that, on October 22, 2015, pursuant to Section 6(a) of the National Cooperative Research and Production Act of 1993, 15 U.S.C. 4301 et seq. (“the Act”), National Spectrum Consortium (“NSC”) has filed written notifications simultaneously with the Attorney General and the Federal Trade Commission disclosing changes in its membership. The notifications were filed for the purpose of extending the Act's provisions limiting the recovery of antitrust plaintiffs to actual damages under specified circumstances. Specifically, Alion Science and Technology Corporation, Rome, NY; All Purpose Networks LLC, Dover, NJ; Altagrove LLC, Herndon, VA; ANDRO Computational Solutions, LLC, Rome, NY; Arizona State University, Tempe, AZ; Astrapi Corporation, Dallas, TX; AT&T, Inc., Vienna, VA; ATDI Government Services, LLC, McLean, VA; BAE Systems Information and Electronic Systems Integration, Inc., Nashua, NH; Battelle Energy Alliance, LLC, Idaho Falls, ID; Black River Systems Company, Inc., Utica, NY; Brigham Young University, Provo, UT; Chesapeake Technology International Corporation, California, MD; CIPHIR-TM, LLC, Charleston, SC; Cognitive Radio Technologies, LLC, Lynchburg, VA; CommScope Technologies, LLC, Ashburn, VA; Constellation Data Systems, Inc., Cincinnati, OH; Creative Digital Systems Integration, Inc., Simi Valley, CA; CRFS, Inc., Falls Church, VA; Cubic Defense Applications, Inc., San Diego, CA; Darkblade Systems Corporation, Stafford, VA; Disney/ABC TV Group, New York, NY; DRS Signal Solutions, Inc., Germantown, MD; Exelis, Inc., Clifton, NJ; Expression Networks LLC, McLean, VA; Federated Wireless, Arlington, VA; Florida International University, Miami, FL; Foundry, Inc., Millersville, MD; Genesys Technologies Ltd., Langhorne, PA; Georgia Tech Applied Research Corporation, Atlanta, GA; GIRD Systems, Inc., Cincinnati, OH; Gonzaga University, Spokane, WA; Haigh-Farr, Inc, Bedford, NH; Harris Corporation, Melbourne, FL; Honeywell International, Inc., Morris Township, NJ; Hughes Network Systems LLC, Germantown, MD ICF Incorporated, LLC, Fairfax, VA; IJK Controls LLC, Dallas, TX; InCadence Strategic Solutions, Manassas, VA; Infinite Dimensions Integration, Inc., Alexandria, VA; Intelligent Automation, Inc., Rockville, MD; InterDigital Communications, Wilmington, DE; Kerberos International, Inc., Temple, TX; Kestrel Corporation, Albuquerque, NM; Key Bridge Global LLC d/b/a Key Bridge LLC, McLean, VA; Keysight Technologies, Inc, Santa Rosa, CA; KinetX, Inc., Tempe, AZ; Kranze Technology Solutions, Inc., Prospect Heights, IL; L3 Communications, San Diego, CA; L3 Communications Systems West, Salt Lake City, UT; L3 Communications Telemetry West, San Diego, CA; Laulima Systems, Kalaheo, HI; LGS Innovations, Herndon, VA; LHC2 Inc. d/b/a Eigen Wireless, Liberty Lake, WA; Lockheed Martin Corporation, Cherry Hill, NJ; LS telcom Inc., Bowie, MD; Metric Systems Corporation, Vista, CA; Monterey-Nouveau & Associates, LLC, Dayton, OH; Nokia Networks, Irving, TX; Northrop Grumman Systems Corporation, Electronic Systems, Linthicum Heights, MD; Northwestern University, Evanston, IL; NTS Technical Systems, Calabasas, CA; Oceanit Laboratories, Inc., Honolulu, HI; Oceus Networks, Inc., Reston, VA; Optical Filter Corp d/b/a Corning Specialty Materials, Keene, NH; Pathfinder Wireless Corp, Seattle, WA; Perceptix LLC, Washington, DC; Physical Optics Corporation, Torrance, CA; Pirhonen, Riku P. d/b/a The Research Armadillo, Flower Mound, TX; Planned Systems International, Inc., Columbia, MD; PrioriTech, Inc., State College, PA; Purdue University, West Lafayette, IN; Raytheon Company, El Segundo, CA; Roberson and Associates LLC, Chicago, IL; Rockwell Collins, Inc., Cedar Rapids, IA; RWC, LLC, Annapolis, MD; S2 Corporation, Bozeman, MT; SA Photonics, Inc., Los Gatos, CA; Sage Management Enterprise, LLC, Columbia, MD; SENTEL Corporation, Alexandria, VA; Shared Spectrum Company, Vienna, VA; Shenandoah Research and Technology, LLC, Mount Jackson, VA; SI2 Technologies, Inc., N. Billerica, MA; Signal Hound, Inc., La Center, WA; Silvus Technologies, Inc., Los Angeles, CA; Southwest Research Institute, San Antonio, TX; Spectronn, Holmdel, NJ; SpectrumFi, Sunnyvale, CA; SRI International, Menlo Park, CA; SSC Innovations LLC, Vienna, VA; Stevens Institute of Technology, Hoboken, NJ; The Aerospace Corporation, El Segundo, CA; The Charles Stark Draper Laboratory, Inc., Cambridge, MA; The John Hopkins University Applied Physics Laboratory, Laurel, MD; The Ohio State University, Columbus, OH; Trabus Technologies, Inc., San Diego, CA; TrellisWare Technologies, Inc., San Diego, CA; TriaSys Technologies Corporation, N. Billerica, MA; Under the Grid, LLC, Pacific Grove, CA; University of Arizona—Electrical and Computer Engineering, Tucson, AZ; University of Illinois, Urbana, IL; University of Mississippi, University, MS; University of Notre Dame, Notre Dame, IN; University of Southern California Information Sciences Institute, Marina Del Ray, CA; University of Washington, Seattle, WA; Vanu, Inc., Cambridge, MA; Vencore Labs, Inc d/b/a Applied Communication Sciences, Basking Ridge, NJ; ViaSat Inc., Carlsbad, CA; Virginia Tech Applied Research Corporation (VT-ARC), Arlington, VA; Virginia Tech/Wireless @ Virginia Tech, Blacksburg, VA; VIStology, Inc., Framingham, MA; VUUM LLC, Houston, TX; W5 Technologies, Inc., Scottsdale, AZ; Worcester Polytechnic Institute, Worcester, MA; X-COM Systems LLC, Reston, VA; and xG Technology, Inc., Sunrise, FL, have been added as parties to this venture.

No other changes have been made in either the membership or planned activity of the group research project. Membership in this group research project remains open, and NSC intends to file additional written notifications disclosing all changes in membership.

On September 24, 2014, NSC filed its original notification pursuant to Section 6(a) of the Act. The Department of Justice published a notice in the Federal Register pursuant to Section 6(b) of the Act on November 4, 2014 (79 FR 65424).

Patricia A. Brink,
Director of Civil Enforcement, Antitrust Division.

[FR Doc. 2015-30754 Filed 12-4-15; 8:45 am]

BILLING CODE P